DEPARTMENT OF TRANSPORTATION

Federal Aviation Administration

Notice of a Public Meeting on the Draft Solicitation for a Center of Excellence for Commercial Space Transportation

AGENCY: Federal Aviation Administration (FAA), DOT.

ACTION: Notice of a public meeting.

SUMMARY: The FAA Office of Commercial Space Transportation will hold a public meeting to discuss the FAA Centers of Excellence Program and the technical requirements for the proposed Center of Excellence for Commercial Space Transportation (COE CST). A Draft Solicitation for the COE CST is available for public review. For a copy of the Draft Solicitation, contact Dr. Patricia Watts (the Contact Person listed below).

DATES: The meeting will take place on Tuesday, February 9, 2010 from 9 a.m. until 2:30 p.m.

ADDRESSES: The public meeting will be held at the Crystal Gateway Marriott, 1700 Jefferson Davis Highway, Arlington, VA 22202, Telephone: (703) 920-3230.

FOR FURTHER INFORMATION CONTACT: Dr. Patricia Watts, National Program Director, FAA Centers of Excellence Program Office, FAA William J. Hughes Technical Center, Atlantic City International Airport, NJ 08405; Telephone: (609) 485-5043; E-mail: patricia.watts@faa.gov.

SUPPLEMENTARY INFORMATION: The meeting is open to the public. The agenda will include an overview of the FAA Centers of Excellence Program, discussions on the proposed COE CST and the Draft Solicitation, and open discussion and Q & A period on the Draft Solicitation.

Issued in Washington, DC, January 22, 2010.
George C. Nield,
Associate Administrator for Commercial Space Transportation.

[FR Doc. 2010-1771 Filed 1-27-10; 8:45 am]

BILLING CODE 4910-13-P